DEPARTMENT OF COMMERCE

International Trade Administration

[A-552-801]

Certain Frozen Fish Fillets From the Socialist Republic of Vietnam: Final Results of Antidumping Duty Administrative Review; Final Determination of No Shipments; 2020-2021

AGENCY: Enforcement and Compliance, International Trade Administration, Department of Commerce.

SUMMARY: The U.S. Department of Commerce (Commerce) determines that 15 companies had no shipments of certain frozen fish fillets from the Socialist Republic of Vietnam (Vietnam) during the period of review (POR) August 1, 2020, through July 31, 2021. Commerce also determines that one company subject to this review is part of the Vietnam-wide entity because it did not demonstrate eligibility for a separate rate.

DATES: Applicable September 13, 2022.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On May 12, 2022, Commerce published the Preliminary Results and invited interested parties to comment.¹ On June 17, 2022, we received a case brief from the petitioners.² On June 24, 2022, we received rebuttal briefs from Nam Viet Corporation (NAVICO) ³ and from Green Farms Seafood Joint Stock Company (Green Farms) and Hung Vuong Group (HVG).⁴

¹ See Certain Frozen Fish Fillets from the Socialist Republic of Vietnam: Preliminary Results of Antidumping Duty Administrative Review, Preliminary Determination of No Shipments, and Partial Rescission of Antidumping Duty Administrative Review; 2020-2021, 87 FR 29113 (May 12, 2022) (Preliminary Results), and accompanying Preliminary Decision Memorandum.

² See Petitioners' Letter, “Case Brief,” dated June 17, 2022. The petitioners are the Catfish Farmers of America and individual U.S. catfish processors: America's Catch; Alabama Catfish, LLC d/b/a Harvest Select Catfish, Inc.; Consolidated Catfish Companies, LLC d/b/a Country Select Catfish; Delta Pride Catfish, Inc.; Guidry's Catfish, Inc.; Heartland Catfish Company; Magnolia Processing, Inc. d/b/a Pride of the Pond; and Simmons Farm Raised Catfish, Inc.

³ See NAVICO's Letter, “Rebuttal Case Brief,” dated June 24, 2022.

⁴ See Green Farms/HVG's Letter, “AR18 Rebuttal Case Brief on behalf of Green Farms and Hung Vuong Group,” dated June 24, 2022.

Scope of the Order ⁵

⁵ See Notice of Antidumping Duty Order: Certain Frozen Fish Fillets from the Socialist Republic of Vietnam, 68 FR 47909 (August 12, 2003) (Order).

The products covered by the Order are frozen fish fillets, including regular, shank, and strip fillets and portions thereof, whether or not breaded or marinated, of the species Pangasius Bocourti, Pangasius Hypophthalmus (also known as Pangasius Pangasius) and Pangasius Micronemus. For a complete description of the scope of this Order, see the Issues and Decision Memorandum.⁶

⁶ See Memorandum, “Issues and Decision Memorandum for the Final Results of the 2020-2021 Administrative Review of the Antidumping Duty Order on Certain Frozen Fish Fillets from the Socialist Republic of Vietnam,” dated concurrently with, and hereby adopted by, this notice (Issues and Decision Memorandum).

Analysis of Comments Received

We addressed all issues raised in the case and rebuttal briefs filed by interested parties in the Issues and Decision Memorandum. A list of the issues that parties raised and to which we responded in the Issues and Decision Memorandum is attached to this notice in appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and the comments received from interested parties, and for the reasons explained in the Issues and Decision Memorandum, we made no changes to the Preliminary Results.

Final Determination of No Shipments

In the Preliminary Results, Commerce preliminarily determined that 15 companies had no shipments of subject merchandise during the POR.⁷ Following the publication of the Preliminary Results, we received comments from interested parties concerning our no shipment determinations regarding two of these companies, GODACO Seafood Joint Stock Company and Fatifish Company Limited.⁸ However, no party identified record evidence which would call our preliminary no shipment determinations into question.⁹ Therefore, for these final results, we find that all 15 companies had no shipments during the POR. See appendix II.

⁷ See Preliminary Results, 87 FR 29113.

⁸ See Issues and Decision Memorandum.

⁹ Id.

Vietnam-Wide Entity

In the Preliminary Results, Commerce stated that Hoa Phat Seafood Import-Export and Processing J.S.C. (Hoa Phat) did not establish eligibility for a separate rate.¹⁰ We received no information or comments since the issuance of the Preliminary Results that provides a basis for reconsidering the preliminary finding. Accordingly, we continue to find that Hoa Phat is not eligible for a separate rate and is part of the Vietnam-wide entity.

¹⁰ See Preliminary Results, 87 FR 29114.

Assessment Rates

We have not calculated any assessment rates in this administrative review. Where we determined that an exporter under review had no shipments of the subject merchandise to the United States during the POR, any suspended entries that entered during the POR under that exporter's U.S. Customs and Border Protection (CBP) case number will be liquidated at a rate of $2.39 per kilogram, the rate for the Vietnam-wide entity.¹¹

¹¹ See Non-Market Economy Antidumping Proceedings: Assessment of Antidumping Duties, 76 FR 65694 (October 24, 2011).

Likewise, for the company that was found to be ineligible for a separate rate, i.e., Hoa Phat, we will instruct CBP to liquidate entries of subject merchandise exported by the company at a rate of $2.39 per kilogram, the rate for the Vietnam-wide entity.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of subject merchandise entered, or withdrawn from warehouse, for consumption on or after the publication date, as provided for by section 751(a)(2)(C) of the Tariff Act of 1930, as amended (Act): (1) the cash deposit rates for the 15 companies in Appendix II will remain unchanged from the rates assigned to them in the most recently-completed segment for each company, as applicable; (2) for previously investigated or reviewed Vietnamese and non-Vietnamese exporters that maintain their eligibility for a separate rate, the cash deposit rate will continue to be the exporter-specific rate published for the most recently-completed segment of this proceeding; (3) for all Vietnamese exporters of subject merchandise which have not been found to be entitled to a separate rate, the cash deposit rate will be $2.39 per kilogram, the rate established for the Vietnam-wide entity; and (4) for all non-Vietnamese exporters of subject merchandise which have not received their own rate, the cash deposit rate will be the rate applicable to the Vietnamese exporters that supplied that non-Vietnamese exporter. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to an administrative protective order (APO) of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

We are issuing and publishing these final results in accordance with sections 751(a)(l) and 777(i) of the Act, and 19 CFR 351.213(h).

Dated: September 7, 2022.
Lisa W. Wang,
Assistant Secretary for Enforcement and Compliance.

Appendix I—List of Topics Discussed in the Issues and Decision Memorandum

I. Summary

II. Background

III. Scope of the Order

IV. Discussion of the Issue

Comment: Commerce Should Ensure that All Subject Merchandise Is Subject to the Appropriate Duties

V. Recommendation

Appendix II

Companies With No Shipments During the POR

1. C.P. Vietnam Corporation

2. CAFATEX Corporation (also known as Cafatex)

3. Dai Thanh Seafoods Company Limited (also known as DATHACO, Dai Thanh Seafoods or Dai Thanh Seafoods Co., Ltd.)

4. Fatifish Company Limited (also known as FATIFISH or FATIFISHCO)

5. GODACO Seafood Joint Stock Company (also known as GODACO, GODACO Seafood, GODACO SEAFOOD, GODACO_SEAFOOD, or GODACO Seafood J.S.C.)

6. Golden Quality Seafood Corporation (also known as Golden Quality, GoldenQuality, GOLDENQUALITY, or GoldenQuality Seafood Corporation)

7. Green Farms Seafood Joint Stock Company (also known as Green Farms, Green Farms Seafood JSC, GreenFarm SeaFoods Joint Stock Company, or Green Farms Seafoods Joint Stock Company)

8. Hai Huong Seafood Joint Stock Company (also known as HHFish, HH Fish, or Hai Huong Seafood)

9. Hung Vuong Group ¹²

¹² Hung Vuong Group is a single entity comprised of the following individual companies: (1) An Giang Fisheries Import and Export Joint Stock Company (also known as Agifish, AnGiang Fisheries Import and Export, An Giang Fisheries Import & Export Joint Stock Company); (2) Asia Pangasius Company Limited (also known as ASIA); (3) Hung Vuong Ben Tre Seafood Processing Company Limited (also known as Ben Tre, HVBT, or HVBT Seafood Processing VBT, or HVBT Seafood Processing); (4) Europe Joint Stock Company (also known as Europe JSC or EJS CO.); (5) Hung Vuong Corporation (also known as HVC, HV Corp. or Hung Vuong Joint Stock Company); (6) Hung Vuong-Sa Dec Co., Ltd. (also known as Hung Vuong Sa Dec Company Limited); (7) Hung Vuong-Vinh Long Co. Ltd. (also known as Hung Vuong Vinh Long Company Limited); and (8) Hung Vuong Mascato Company Limited.

10. Nam Viet Corporation (also known as NAVICO)

11. QVD Food Company Ltd. (aka QVD, QVD Food Co., Ltd., or QVD Aquaculture) ¹³

¹³ QVD is a single entity that also includes QVD Dong Thap Food Co., Ltd. (also known as Dong Thap or QVD DT) and Thuan Hung Co., Ltd. (also known as THUFICO).

12. Southern Fishery Industries Company, Ltd. (also known as South Vina, South Vina Co., Ltd., Southern Fishery Industries Co., Ltd., Southern Fisheries Industries Company, Ltd., or Southern Fisheries Industries Company Limited)

13. To Chau Joint Stock Company (also known as TOCHAU, TOCHAU JSC, or TOCHAU Joint Stock Company)

14. Viet Hai Seafood Company Limited (also known as Viet Hai, Viet Hai Seafood Co., Ltd., Viet Hai Seafood Co., Vietnam Fish-One Co., Ltd., or Fish One)

15. Vinh Quang Fisheries Corporation (also known as Vinh Quang, Vinh Quang Fisheries Corp., Vinh Quang Fisheries Joint Stock Company, or Vinh Quang Fisheries Co., Ltd.)

[FR Doc. 2022-19773 Filed 9-12-22; 8:45 am]

BILLING CODE 3510-DS-P